DEPARTMENT OF HOMELAND SECURITY

Federal Emergency Management Agency

[Docket ID FEMA-2007-0008]

National Advisory Council

AGENCY: Federal Emergency Management Agency, DHS.

ACTION: Committee Management; Notice of Federal Advisory Committee Meeting.

SUMMARY: The National Advisory Council will meet on September 27-28, 2011, in Arlington, VA. The meeting will be open to the public.

DATES: The National Advisory Council will meet Tuesday, September 27, 2011, from 9:30 a.m. EDT to 5:30 p.m. EDT and on Wednesday, September 28, 2011, 8:30 a.m. EDT to 5:10 p.m. EDT. Please note that the meeting may close early if the committee has completed its business.

ADDRESSES: The meeting will be held at the Crystal City Marriott at Reagan National Airport, 1999 Jefferson Davis Highway, Arlington, VA 22202.

For information on facilities or services for individuals with disabilities or to request special assistance at the meeting, contact Patricia A. Kalla of the Office of the National Advisory Council as soon as possible. See contact information under FOR FURTHER INFORMATION CONTACT section below.

To facilitate public participation, we are inviting public comment on the issues to be considered by the committee as listed in the SUPPLEMENTARY INFORMATION section below. Written comments or requests to make oral presentations must be submitted in writing no later than September 16, 2011 and must be identified by Docket ID FEMA-2007-0008 and may be submitted by one of the following methods:

Federal eRulemaking Portal: http://www.regulations.gov. Follow the instructions for submitting comments.

• E-mail: FEMA-RULES@dhs.gov. Include the Docket ID FEMA-2007-0008 in the subject line of the message.

• Fax: (703) 483-2999.

• Mail: FEMA, 500 C Street, SW., Room 840, Washington, DC 20472-3100.

Instructions: All submissions received must include the words “Federal Emergency Management Agency” and the Docket ID FEMA-2007-0008 for this action. Comments received will be posted without alteration at http://www.regulations.gov, including any personal information provided.

Docket: For access to the docket to read background documents or comments received by the National Advisory Council, go to http://www.regulations.gov.

A public comment period will be held during the meeting on September 28, 2011, from 2:30 p.m. EDT to 3:15 p.m. EDT, and speakers are requested to register in advance, be present and seated by 1:30 p.m. EDT, and limit their comments to 3 minutes. With 3 minutes per speaker, the public commented is limited to no more than 10 speakers. Please note that the public comment period may start and end before the time indicated, if the committee has finished its business. Contact Patricia A. Kalla, Designated Federal Officer (DFO), to register as a speaker.

FOR FURTHER INFORMATION CONTACT: Patricia A. Kalla, DFO, Office of the National Advisory Council, Federal Emergency Management Agency (Room 832), 500 C Street, SW., Washington, DC 20472-3100, telephone (202) 646-3746, fax (202) 646-3930, and e-mail FEMA-NAC@dhs.gov. The National Advisory Council Web site is located at: http://www.fema.gov/about/nac/.

SUPPLEMENTARY INFORMATION: Notice of this meeting is given under the Federal Advisory Committee Act, 5 U.S.C. App. (Pub. L. 92-463). The National Advisory Council (NAC) advises the Administrator of the Federal Emergency Management Agency (FEMA) on all aspects of emergency management. The NAC incorporates State, local, and Tribal governments, and private sector partners' input in the development and revision of FEMA policies and strategies. FEMA's Office of the NAC serves as the focal point for all NAC coordination.

Agenda

The NAC will meet for the purpose of reviewing the progress and/or potential recommendations of the following NAC subcommittees: Preparedness and Protection, Response and Recovery, Public Engagement and Mission Support, and Federal Insurance and Mitigation. The NAC will discuss “Whole Community” concept and how to effectively engage all members of the community. In the area of flood risk mapping, discussions will focus on messaging and risk perception. The NAC will hold discussions on the Presidential Policy Directive 8 (PPD-8) on National Preparedness, the Strategic Foresight Initiative (SFI), the Emergency Management Institute, and the Radiological Emergency Preparedness (REP) Program. Additionally, members appointed on June 15, 2011, will be sworn-in during the first day of the meeting.

PPD-8, signed on March 30, 2011, directs the development of a national preparedness goal that identifies the core capabilities necessary for preparedness and a national preparedness system to guide activities that will enable the Nation to achieve the goal. PPD-8 replaces Homeland Security Presidential Directive 8 (HSPD-8) and Annex 1.

FEMA launched the SFI to promote broader and longer term thinking on world changes that can have major effects on the emergency management community. More information on SFI can be found online at https://www.fema.gov/about/programs/oppa/strategic_foresight_initiative.shtm.

FEMA established the REP Program to (1) Ensure the health and safety of citizens living around commercial nuclear power plants would be adequately protected in the event of a nuclear power plant accident; and (2) inform and educate the public about radiological emergency preparedness. More information on the REP Program can be found online at http://www.fema.gov/about/divisions/thd_repp.shtm.

Dated: September 2, 2011.
W. Craig Fugate,
Administrator, Federal Emergency Management Agency.

[FR Doc. 2011-23048 Filed 9-8-11; 8:45 am]

BILLING CODE 9111-48-P